DEPARTMENT OF HOMELAND SECURITY

Federal Emergency Management Agency

[Docket ID FEMA-2024-0002; Internal Agency Docket No. FEMA-B-2463]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before January 6, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2463, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

Community | Community map repository address
Kearney County, Nebraska and Incorporated Areas
Project: 23-07-0004S Preliminary Date: February 29, 2024
City of Minden | City Hall, 325 North Colorado Avenue, Minden, NE 68959.
Unincorporated Areas of Kearney County | Kearney County Roads Department, 1124 East 9th Street, Minden, NE 68959.
Village of Axtell | Village Clerk's Office, 419 Main Avenue, Axtell, NE 68924.
Village of Heartwell | Community Center, 210 Main Street, Heartwell, NE 68945.
Village of Norman | Village Hall, 116 Norman Avenue, Norman, NE 68959.
Alamance County, North Carolina and Incorporated Areas
Project: 22-04-0022S Preliminary Date: October 28, 2022
Town of Gibsonville | Planning Department, 129 West Main Street, Gibsonville, NC 27249.
Unincorporated Areas of Alamance County | Alamance County Planning Department, 201 West Elm Street, Graham, NC 27253.
Caswell County, North Carolina and Incorporated Areas
Project: 22-04-0023S Preliminary Date: October 28, 2022
Town of Milton | Town Hall Government Center, Planning Department, 148 Broad Street, Milton, NC 27305.
Town of Yanceyville | Municipal Services Building, 158 East Church Street, Yanceyville, NC 27379.
Unincorporated Areas of Caswell County | Caswell County Government Office, Planning Department, 144 Main Street, Yanceyville, NC 27379.
Davidson County, North Carolina and Incorporated Areas
Project: 22-04-0022S Preliminary Date: October 28, 2022
Unincorporated Areas of Davidson County | Davidson County Government Center, Planning and Zoning Department, 913 Greensboro Street, Lexington, NC 27292.
Forsyth County, North Carolina and Incorporated Areas
Project: 22-04-0022S Preliminary Date: October 28, 2022
Town of Kernersville | Town Hall, Planning Department, 134 East Mountain Street, Kernersville, NC 27284.
Unincorporated Areas of Forsyth County | Forsyth County Bryce A. Stuart Municipal Building, Erosion Control, 100 East 1st Street, Winston-Salem, NC 27101.
Village of Tobaccoville | Forsyth County Bryce A. Stuart Municipal Building, Erosion Control, 100 East 1st Street, Winston-Salem, NC 27101.
Guilford County, North Carolina and Incorporated Areas
Project: 22-04-0022S Preliminary Date: October 28, 2022 and January 23, 2024
City of Greensboro | Stormwater Division, Water Resources, 2602 South Elm-Eugene Street, Greensboro, NC 27406.
City of High Point | City Hall, 211 South Hamilton Street, High Point, NC 27261.
Town of Jamestown | Town Hall, 301 East Main Street, Jamestown, NC 27282.
Town of Oak Ridge | Town Hall, 8315 Linville Road, Suite B, Oak Ridge, NC 27310.
Town of Pleasant Garden | Kirkman Municipal Building/Town Hall, 4920 Alliance Church Road, Pleasant Garden, NC 27313.
Town of Sedalia | Town Hall, 6121 Burlington Road, Sedalia, NC 27342.
Town of Stokesdale | Town Hall, 8325 Angel Pardue Road, Stokesdale, NC 27357.
Town of Summerfield | Planning Office, 4117 Oak Ridge Road, Summerfield, NC 27358.
Unincorporated Areas of Guilford County | Guilford County Planning Department, 400 West Market Street, Greensboro, NC 27402.
Randolph County, North Carolina and Incorporated Areas
Project: 22-04-0022S Preliminary Date: October 28, 2022
Unincorporated Areas of Randolph County | Randolph County Planning Department, 204 East Academy Street, Asheboro, NC 27205.
Rockingham County, North Carolina and Incorporated Areas
Project: 22-04-0023S Preliminary Date: October 28, 2022
City of Eden | City Hall, Planning and Community Development, 308 East Stadium Drive, Eden, NC 27288.
City of Reidsville | City Hall, 230 West Morehead Street, Reidsville, NC 27320.
Town of Madison | Town Hall, 120 North Market Street, Madison, NC 27025.
Town of Mayodan | Town Hall, 210 West Main Street, Mayodan, NC 27027.
Unincorporated Areas of Rockingham County | Rockingham County Governmental Complex, Planning and Inspections Department, 371 NC Highway 65 #100, Reidsville, NC 27320.
Stokes County, North Carolina and Incorporated Areas
Project: 22-04-0022S Preliminary Date: October 28, 2022
City of King | City Hall, 229 South Main Street, King, NC 27021.
Unincorporated Areas of Stokes County | Stokes County Administration Building, Department of Planning, 1014 Main Street, Danbury, NC 27016.
Allendale County, South Carolina and Incorporated Areas
Project: 18-04-0039S Preliminary Date: May 14, 2021
Unincorporated Areas of Allendale County | Allendale County Administrative Office, 526 Memorial Avenue North, Allendale, SC 29810.
Bamberg County, South Carolina and Incorporated Areas
Project: 18-04-0039S Preliminary Date: May 14, 2021 and July 14, 2022
City of Bamberg | City Hall, 2340 Main Highway, Bamberg, SC 29003.
City of Denmark | City Hall, 64 City Hall Street, Denmark, SC 29042.
Town of Ehrhardt | Town Hall, 13704 Broxton Bridge Road, Ehrhardt, SC 29081.
Unincorporated Areas of Bamberg County | Bamberg County Courthouse Annex, 1234 North Street, Bamberg, SC 29003.
Barnwell County, South Carolina and Incorporated Areas
Project: 18-04-0039S Preliminary Date: May 14, 2021 and July 14, 2022
City of Barnwell | City Hall, 130 Main Street, Barnwell, SC 29812.
Unincorporated Areas of Barnwell County | Barnwell County Administration Building, 57 Wall Street, Barnwell, SC 29812.
Hampton County, South Carolina and Incorporated Areas
Project: 19-04-0016S Preliminary Date: May 14, 2021 and July 14, 2022
Town of Estill | Hampton County B. T. DeLoach Building, 201 Jackson Avenue West, Hampton, SC 29924.
Town of Furman | Hampton County B. T. DeLoach Building, 201 Jackson Avenue West, Hampton, SC 29924.
Town of Hampton | Municipal Court, 608 1st Street West, Hampton, SC 29924.
Town of Luray | Hampton County B. T. DeLoach Building, 201 Jackson Avenue West, Hampton, SC 29924.
Town of Varnville | Hampton County B. T. DeLoach Building, 201 Jackson Avenue West, Hampton, SC 29924.
Town of Yemassee | Town Hall, 101 Town Circle, Yemassee, SC 29945.
Unincorporated Areas of Hampton County | Hampton County B. T. DeLoach Building, 201 Jackson Avenue West, Hampton, SC 29924.

[FR Doc. 2024-23126 Filed 10-4-24; 8:45 am]

BILLING CODE 9110-12-P